SMALL BUSINESS ADMINISTRATION

Military Reservist Economic Injury Disaster Loans; Interest Rate for First Quarter FY 2013

In accordance with the Code of Federal Regulations 13—Business Credit and Assistance § 123.512, the following interest rate is effective for Military Reservist Economic Injury Disaster Loans approved on or after November 26, 2012.

Military Reservist Loan Program 4.000%

Dated: November 19, 2012.
James E. Rivera,
Associate Administrator for Disaster Assistance.

[FR Doc. 2012-29124 Filed 11-30-12; 8:45 am]

BILLING CODE P